DEPARTMENT OF TRANSPORTATION

Federal Aviation Administration

14 CFR Part 39

[Docket No. FAA-2025-0754; Project Identifier MCAI-2024-00489-T; Amendment 39-23185; AD 2025-23-02]

RIN 2120-AA64

Airworthiness Directives; Airbus SAS Airplanes

AGENCY: Federal Aviation Administration (FAA), DOT.

ACTION: Final rule.

SUMMARY: The FAA is superseding Airworthiness Directive (AD) 2017-23-04, which applied to all Airbus SAS Model A300 B4-600R series airplanes; all Model A300-B4 603, B4-620, and B4-622 airplanes; all Model A300 C4-605R Variant F airplanes; and certain Model A300 F4-605R airplanes. AD 2017-23-04 required an inspection of the upper wing skin and top stringer joints, and modification of the stringer joint couplings if necessary. Since the FAA issued AD 2017-23-04, it has been determined that additional airplanes may be subject to the identified unsafe condition. This AD continues to require the actions in AD 2017-23-04 and adds airplanes. This AD also removes certain airplanes from the applicability. The FAA is issuing this AD to address the unsafe condition on these products.

DATES: This AD is effective January 13, 2026.

The Director of the Federal Register approved the incorporation by reference of a certain publication listed in this AD as of January 13, 2026.

ADDRESSES:

AD Docket: You may examine the AD docket at regulations.gov under Docket No. FAA-2025-0754; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building, Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0754.

FOR FURTHER INFORMATION CONTACT: Aaron Nguyen, Aviation Safety Engineer, FAA, 2200 South 216th St., Des Moines, WA 98198; phone: 817-222-5134; email: Aaron.T.Nguyen@faa.gov.

SUPPLEMENTARY INFORMATION:

Background

The FAA issued a notice of proposed rulemaking (NPRM) to amend 14 CFR part 39 to supersede AD 2017-23-04, Amendment 39-19098 (82 FR 52832, November 15, 2017) (AD 2017-23-04). AD 2017-23-04 applied to all Airbus SAS Model A300 B4-600R series airplanes; all Model A300 B4-603, B4-620, and B4-622 airplanes; all Model A300 C4-605R Variant F airplanes; and certain Model A300 F4-605R airplanes. AD 2017-23-04 required an inspection of the upper wing skin and top stringer joints, and modification of the stringer joint couplings if necessary. The FAA issued AD 2017-23-04 to detect and correct damage (including cracking) at the stringer joints, which could reduce the structural integrity of the wing.

The NPRM was published in the Federal Register on May 13, 2025 (90 FR 20261). The NPRM was prompted by AD 2024-0170, dated August 26, 2024, issued by EASA, which is the Technical Agent for the Member States of the European Union (EASA AD 2024-0170) (also referred to as the MCAI). The MCAI states that EASA AD 2024-0170 was issued to expand the applicability to include Model A300 F4-605R airplanes in post-modification 12699 configuration (i.e., airplanes embodied with Airbus modification 12699) and A300 F4-622R airplanes, even though the introduced models are below the lower threshold of the embodiment window (for modification of the stringer joint couplings), ensuring that their structures remain resistant against widespread fatigue damage within their established limit of validity.

In the NPRM, the FAA proposed to require the actions in AD 2017-23-04 and add airplanes. In the NPRM, the FAA also proposed to remove certain airplanes from the applicability. The FAA is issuing this AD to address the unsafe condition on these products.

You may examine the MCAI in the AD docket at regulations.gov under Docket No. FAA-2025-0754.

Discussion of Final Airworthiness Directive

Comments

The FAA received comments from FedEx who supported the NPRM and had an additional request.

Request To Allow Previously Approved Alternative Methods of Compliance (AMOCs)

FedEx requested the FAA revise paragraph (i) of the proposed AD to allow AMOCs approved previously for AD 2017-23-04 to be approved as AMOCs for the corresponding provisions of the proposed AD to prevent the need to request new AMOC approvals after the AD is released.

The FAA agrees and has revised this AD accordingly.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed EASA AD 2024-0170, which specifies procedures for a detailed visual inspection of the upper wing skin and top stringer joints at rib 18 for damage (including cracking), modification of the stringer joint couplings at rib 18, and corrective actions if necessary. The modification includes oversizing fastener holes in the upper wing skin and doing a special detailed (roto-probe) inspection for damage, including cracking, of the fastener holes. Corrective actions include obtaining and following repair instructions. This material is reasonably available because the interested parties have access to it through their normal course of business or by the means identified in the ADDRESSES section.

Costs of Compliance

The FAA estimates that this AD affects 119 airplanes of U.S. registry. The FAA estimates the following costs to comply with this AD:

Estimated Costs for Required Actions
Action | Labor cost | Parts cost | Cost per product | Cost on U.S. operators
Retained actions from AD 2017-23-04 | 38 work-hours × $85 per hour = $3,230 | $9,540 | $12,770 | $1,519,630

The FAA has received no definitive data on which to base the cost estimates for the on-condition actions specified in this AD.

Authority for this Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-23-04, Amendment 39-19098 (82 FR 52832, November 15, 2017); and

b. Adding the following new AD:

2025-23-02 Airbus SAS: Amendment 39-23185; Docket No. FAA-2025-0754; Project Identifier MCAI-2024 00489-T.

(a) Effective Date

This airworthiness directive (AD) is effective January 13, 2026.

(b) Affected ADs

This AD replaces AD 2017-23-04, Amendment 39-19098 (82 FR 52832, November 15, 2017) (AD 2017-23-04).

(c) Applicability

This AD applies to all Airbus SAS Model A300 B4-603, B4-605R, B4-622, B4-622R, C4-605R Variant F, F4-605R, and F4-622R airplanes, certificated in any category.

(d) Subject

Air Transport Association (ATA) of America Code 57, Wings.

(e) Unsafe Condition

This AD was prompted by the determination that the top stringer joints at rib 18 are an area of uniform stress distribution, which indicates that cracks may develop in adjacent stringer at the same time, and by the determination that additional airplanes are subject to the unsafe condition. The FAA is issuing this AD to detect and correct damage (including cracking) at the stringer joints. The unsafe condition, if not addressed, could result in reduced structural integrity of the wing.

(f) Compliance

Comply with this AD within the compliance times specified, unless already done.

(g) Requirements

Except as specified in paragraph (h) of this AD: Comply with all required actions and compliance times specified in, and in accordance with, European Union Aviation Safety Agency (EASA) AD 2024-0170, dated August 26, 2024 (EASA AD 2024-0170).

(h) Exceptions to EASA AD 2024-0170

(1) Where EASA AD 2024-0170 refers to “24 February 2017 [the effective date of EASA AD 2017-0023]”, this AD requires using “December 20, 2017 (the effective date of AD 2017-23-04)”.

(2) Where EASA AD 2024-0170 refers to its effective date, this AD requires using the effective date of this AD.

(3) Where EASA AD 2024-0170 does not define “average flight time” for determining the short range (SR) and long range (LR) airplanes, this AD defines “average flight time” as the total accumulated flight hours, counted from takeoff to touchdown, divided by the total accumulated flight cycles as of December 20, 2017 (the effective date of AD 2017-23-04).

(4) Where paragraph (1) of EASA AD 2024-0170 specifies to accomplish all applicable corrective actions and modify the stringer joint couplings, this AD requires accomplishing the applicable corrective actions and modification before further flight after the inspection.

(5) Where the referenced material in EASA AD 2024-0170 specifies inspecting for damage, this AD defines damage as cracking.

(6) This AD does not adopt the “Remarks” section of EASA AD 2024-0170.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov.

(i) Before using any approved AMOC, notify your appropriate principal inspector, or lacking a principal inspector, the manager of the responsible Flight Standards Office.

(ii) AMOCs approved previously for AD 2017-23-04 are approved as AMOCs for the corresponding provisions of EASA AD 2024-0170 that are required by paragraph (g) of this AD.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (i)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Aaron Nguyen, Aviation Safety Engineer, FAA, 2200 South 216th St., Des Moines, WA 98198; phone: 817-222-5134; email: Aaron.T.Nguyen@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0170, dated August 26, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on November 5, 2025.
Peter A. White,
Deputy Director, Integrated Certificate Management Division, Aircraft Certification Service.

[FR Doc. 2025-22351 Filed 12-8-25; 8:45 am]

BILLING CODE 4910-13-P